DEPARTMENT OF COMMERCE

International Trade Administration

[C-570-978]

High Pressure Steel Cylinders From the People's Republic of China: Rescission of Countervailing Duty Administrative Review: 2018

AGENCY: Enforcement and Compliance, International Trade Administration, Department of Commerce.

SUMMARY: The Department of Commerce (Commerce) is rescinding the administrative review of the countervailing duty (CVD) order on certain high pressure steel cylinders (steel cylinders) from the People's Republic of China (China) for the period of review (POR) January 1, 2018 through December 31, 2018, based on the timely withdrawal of the requests for review.

DATES: Applicable October 25, 2019.

FOR FURTHER INFORMATION CONTACT: Dusten Hom, AD/CVD Operations, Office I, Enforcement and Compliance, International Trade Administration, U.S. Department of Commerce, 1401 Constitution Avenue NW, Washington, DC 20230; telephone: (202) 482-5075.

SUPPLEMENTARY INFORMATION:

Background

On June 3, 2019, Commerce published a notice of opportunity to request an administrative review of the CVD order on steel cylinders from China for the POR of January 1, 2018, through December 31, 2018.¹ Commerce received a timely-filed request from Norris Cylinder Company (Norris) for an administrative review of Beijing Tianhai Industry Co., Ltd. (BTIC), Tianjin Tianhai High Pressure Container Co., Ltd. (Tianjin Tianhai), and Langfang Tianhai High Pressure Container Co., Ltd. (Langfang Tianhai) and a request from BTIC for a review of itself, in accordance with section 751(a) of the Tariff Act of 1930, as amended (the Act), and 19 CFR 351.213(b).²

¹ See Antidumping or Countervailing Duty Order, Finding, or Suspended Investigation; Opportunity To Request Administrative Review, 84 FR 25521 (June 3, 2019).

² See letter from Norris, “High Pressure Steel Cylinders from the People's Republic of China; Request for Administrative Review,” dated June 24, 2019, and BTIC, “Request for the Seventh Administrative Review of the Countervailing Duty Order on High Pressure Steel Cylinders from the People's Republic of China, C-570-978 (POR: 01/01/18-12/31/18),” dated June 27, 2019.

On July 29, 2019, pursuant to these requests and in accordance with 19 CFR 351.221(c)(1)(i), Commerce published a notice initiating an administrative review of the countervailing duty order on steel cylinders from China with respect to BTIC, Tianjin Tianhai, and Langfang Tianhai.³ On October 1, 2019, Norris and BTIC withdrew their requests for an administrative review.⁴

³ See Initiation of Antidumping and Countervailing Duty Administrative Reviews, 84 FR 36572 (July 29, 2019).

⁴ See letter from Norris, “High Pressure Steel Cylinders from the People's Republic of China; Withdrawal of Request for Administrative Review,” and BTIC, “Withdrawal of Review Request in the Seventh Administrative Review of Countervailing Duty Order on High Pressure Steel Cylinders from the People's Republic of China,” dated October 1, 2019.

Rescission of Review

Pursuant to 19 CFR 351.213(d)(1), Commerce will rescind an administrative review, in whole or in part, if the party or parties that requested a review withdraws the request within 90 days of the publication date of the notice of initiation of the requested review. Norris withdrew its request for review of BTIC, Langfang Tianhai High Pressure Container, and Tianjin Tianhai High Pressure Container, and BTIC withdrew its request for review of itself. Both parties withdrew their requests within 90 days of the publication date of the notice of initiation. No other parties requested an administrative review of the order. Therefore, in accordance with 19 CFR 351.213(d)(1), we are rescinding this review in its entirety.

Assessment

Commerce will instruct U.S. Customs and Border Protection (CBP) to assess countervailing duties on all appropriate entries of HPSC from China. Countervailing duties shall be assessed at rates equal to the cash deposit of estimated countervailing duties required at the time of entry, or withdrawal from warehouse, for consumption in accordance with 19 CFR 351.212(c)(1)(i). Commerce intends to issue appropriate assessment instructions to CBP 15 days after the date of publication of this notice in the Federal Register.

Notification Regarding Administrative Protective Orders

This notice also serves as a reminder to all parties subject to administrative protective order (APO) of their responsibility concerning the disposition of proprietary information disclosed under APO in accordance with 19 CFR 351.305. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: October 21, 2019.
James Maeder,
Deputy Assistant Secretary for Antidumping and Countervailing Duty Operations.

[FR Doc. 2019-23336 Filed 10-24-19; 8:45 am]

BILLING CODE 3510-DS-P